DEPARTMENT OF HEALTH AND HUMAN SERVICES

National Institutes of Health

Center for Scientific Review; Amended Notice of Meeting

Notice is hereby given of a change in the meeting of the Center for Scientific Review Special Emphasis Panel, February 09, 2017, 08:00 a.m. to February 09, 2017, 05:00 p.m., National Institutes of Health, 6701 Rockledge Drive, Bethesda, MD 20892 which was published in the Federal Register on January 17, 2017, V-82 Page 3343.

The meeting will be held at JW Marriott, 614 Canal St., New Orleans, LA 70130. The meeting time has not changed. The meeting is closed to the public.

Dated: February 2, 2017.
Michelle Trout,
Program Analyst, Office of Federal Advisory Committee Policy.

[FR Doc. 2017-02504 Filed 2-7-17; 8:45 am]

BILLING CODE 4140-01-P